DEPARTMENT OF HOMELAND SECURITY

Federal Emergency Management Agency

[Docket ID FEMA-2014-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of September 17, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community map repository address
Pike County, Indiana, and Incorporated Areas
Docket No.: FEMA-B-1292
City of Petersburg | City Hall, 704 East Main Street, Petersburg, IN 47567.
Town of Winslow | Town Hall, 301 North Main Street, Winslow, IN 47598.
Unincorporated Areas of Pike County | Pike County Courthouse, 801 Main Street, Petersburg, IN 47567.
Jackson County, Texas, and Incorporated Areas
Docket No.: FEMA-B-1311
City of Edna | City Hall, 126 West Main Street, Edna, TX 77957.
City of Ganado | City Hall, 112 East Putnam, Ganado, TX 77962.
City of La Ward | Fire Station, 13041 State Highway 172, La Ward, TX 77970.
Unincorporated Areas of Jackson County | Jackson County Department of Permitting, Inspection and Floodplain Administration, 411 North Wells, Room 130, Edna, TX 77957.
Dane County, Wisconsin, and Incorporated Areas
Docket No.: FEMA-B-1340
City of Edgerton | City Hall, 12 Albion Street, Edgerton, WI 53534.
City of Madison | City Hall, 210 Martin Luther King Jr. Boulevard, Room 403, Madison, WI 53703.
City of Middleton | City Hall, 7426 Hubbard Avenue, Middleton, WI 53562.
City of Stoughton | City Hall, 381 East Main Street, Stoughton, WI 53589.
City of Sun Prairie | City Hall, 300 East Main Street, Sun Prairie, WI 53590.
Unincorporated Areas of Dane County | City County Building, 210 Martin Luther King Jr. Boulevard, Room 116, Madison, WI 53703.
Village of Cambridge | Village Hall, 200 South Spring Street, Cambridge, WI 53523.
Village of Cottage Grove | Village Hall, 221 East Cottage Grove Road, Cottage Grove, WI 53527.
Village of Deerfield | Village Hall, 4 North Main Street, Deerfield, WI 53531.
Village of DeForest | Village Hall, 306 DeForest Street, DeForest, WI 53532.
Village of Marshall | Village Hall, 130 South Pardee Street, Marshall, WI 53559.
Village of McFarland | Village Hall, 5915 Milwaukee Street, McFarland, WI 53558.
Village of Oregon | Village Hall, 117 Spring Street, Oregon, WI 53575.
Village of Rockdale | Village Hall, 148 Water Street, Rockdale, WI 53523.
Village of Waunakee | Village Hall, 500 West Main Street, Waunakee, WI 53597.

(Catalog of Federal Domestic Assistance No. 97.022, “Flood Insurance.”)

Dated: July 11, 2014.
Roy E. Wright,
Deputy Associate Administrator for Mitigation, Department of Homeland Security, Federal Emergency Management Agency.

[FR Doc. 2014-18248 Filed 7-31-14; 8:45 am]

BILLING CODE 9110-12-P